DEPARTMENT OF TRANSPORTATION

Federal Aviation Administration

14 CFR Parts 34 and 45

[Docket No.: FAA-2012-1333; Amendment No. 34-5A]

RIN 2120-AK15

Exhaust Emission Standards for New Aircraft Turbine Engines and Identification Plate for Aircraft Engines

Correction

In rule document 2013-24712, appearing on pages 63015-63017 in the issue of Wednesday, October 23, 2013, make the following correction:

§ 34.23 [Corrected]

On page 63017, in the Table titled “Tier 6 Oxides of Nitrogen Emission Standards for Subsonic Engines”, in the third column, in the last row, the entry “rO > 26.7” is corrected to read “rO ≥ 26.7”.

[FR Doc. C1-2013-24712 Filed 10-31-13; 8:45 am]

BILLING CODE 4910-13-P